DEPARTMENT OF STATE

[Public Notice: 7050]

Notice of Proposal To Extend the Agreement Between the Government of the United States of America and the Government of the Republic of Nicaragua Concerning the Imposition of Import Restrictions on Archaeological Material From the Pre-Hispanic Cultures of the Republic of Nicaragua

The Government of the Republic of Nicaragua has informed the Government of the United States of its interest in an extension of the Agreement Between the Government of the United States of America and the Government of the Republic of Nicaragua Concerning the Imposition of Import Restrictions on Archaeological Material from the Pre-Hispanic Cultures of the Republic of Nicaragua, and possible additional restrictions on certain ethnological material.

Pursuant to the authority vested in the Under Secretary for Public Diplomacy and Public Affairs, and pursuant to the requirement under 19 U.S.C. 2602(f)(1), an extension of this Agreement is hereby proposed.

Pursuant to 19 U.S.C. 2602(f)(2), the views and recommendations of the Cultural Property Advisory Committee regarding this proposal will be requested.

A copy of the Agreement, the Designated List of restricted categories of material, and related information can be found at the following Web site: http://exchanges.state.gov/heritage/culprop.

Judith A. McHale,
Under Secretary, Public Diplomacy and Public Affairs, Department of State.

[FR Doc. 2010-14502 Filed 6-15-10; 8:45 am]

BILLING CODE 4710-05-P